DEPARTMENT OF LABOR

Employment and Training Administration

Workforce Investment Act Allotments and Wagner-Peyser Act Preliminary Planning Estimates for Program Year (PY) 2001

AGENCY: Employment and Training Administration, Labor.

ACTION: Notice.

SUMMARY: This notice announces States' Workforce Investment Act (WIA) allotments for Program Year (PY) 2001 (July 1, 2001-June 30, 2002) for WIA title I Youth, Adults and Dislocated Worker programs; and preliminary planning estimates for public employment service activities under the Wagner-Peyser Act for PY 2001. This is the second year in which allotments are made to States and outlying areas under WIA. The allotments for States are based on formulas defined in the Act. The allotments for the outlying areas are based on formula at the Secretary's discretion under WIA Title I. As required by WIA section 182(d), on February 17, 2000, a Notice of the discretionary formula for allocating PY 2000 funds for the outlying areas was published in the Federal Register at 65 FR 8236 (February 17, 2000). The rationale for the formula and methodology was fully explained in the February 17, 2000 Notice. The formula for PY 2001 is the same as PY 2000 and is described in detail in the section on Youth allotments.

Comments are invited upon the formula used to allot funds to the outlying areas.

DATES: Comments must be received by April 6, 2001.

ADDRESSES: Submit written comments to the Employment and Training Administration, Office of Financial and Administrative Management, 200 Constitution Ave, NW., Room N-4702, Washington, DC 20210, Attention: Ms. Sherryl Bailey, 202-693-2813, 202-693-2859 (fax), e-mail: sbailey@doleta.gov.

FOR FURTHER INFORMATION CONTACT: For WIA Title I allotments, contact: Youth Activities Allotments: Lorenzo Harrison at 202-693-3528; Adult and Dislocated Worker Employment and Training Activities Allotments: John Beverly at 202-693-3502; and Wagner-Peyser preliminary planning estimates: Gay Gilbert at 202-693-3428. (These are not toll-free numbers.) Information may also be found at the website—http://usworkforce.org.

SUPPLEMENTARY INFORMATION: The Department of Labor (DOL or Department) is announcing Workforce Investment Act (WIA) allotments for Program Year (PY) 2001 (July 1, 2001-June 30, 2002) for WIA title I Youth Activities, Adults and Dislocated Workers Activities; and, in accordance with Section 6 (b)(5) of the Wagner-Peyser Act, preliminary planning estimates for public employment service (ES) activities under the Wagner-Peyser Act for PY 2001. This document provides information on the amount of funds available during PY 2001 to States with an approved WIA title I and Wagner-Peyser 5-Year Strategic Plan and information regarding allotments to the outlying areas. The allotments and estimates are based on the funds appropriated by the Department of Labor Appropriations Act, 2001, part of the Consolidated Appropriations Act, 2001, Public Law 106-554.

Attached is a listing of the allotments for PY 2001 for programs under WIA title I Youth Activities, Adults and Dislocated Workers Employment and Training Activities; and preliminary planning estimates for public employment service activities under the Wagner-Peyser Act. Final Wagner-Peyser Act planning estimates will be published in the Federal Register.

Youth Activities Allotments

PY 2001 Youth Activities funds under WIA total $1,377,965,000 (including $275 million for Youth Opportunity grants). Attachment I contains a breakdown of the $1,102,965,000 in WIA title I Youth Activities program allotments by State for PY 2001 and provides a comparison of these allotments to PY 2000 Youth Activities allotments for all States, outlying areas, Puerto Rico and the District of Columbia.

Before determining the amount available for States, the total available for the outlying areas was reserved at 0.25 percent of the full amount appropriated for Youth Activities, in accordance with WIA provisions, resulting in $3,444,913, an increase of $317,500, or 10.2 percent, over the PY 2000 level. From the total funds for outlying areas for the WIA Youth Activities program, WIA section 127(b)(1)(B) requires that competitive grants be awarded to Guam, American Samoa, the Commonwealth of the Northern Mariana Islands, and the Freely Associated States, and further provides that the amount for such grants is not to exceed the amount reserved for the Freely Associated States for the JTPA II-B Summer Youth and the JTPA II-C Youth Training for PY 1997. WIA has corresponding requirements for competitive grants for the Adult Activities and Dislocated Worker Activities programs. The Secretary determined that a total of $1,000,000 would be reserved for the required competitive grants for all three programs for PY 2001, the same level as PY 2000. For the WIA Youth Activities program, the amount of competitive grants was set at $222,535, the maximum allowed by WIA which is the amount of JTPA PY 1997 total Youth allotments for the Freely Associated States, the same level as PY 2000. The method of distribution of the remaining WIA Youth Activities non-competitive funds to all outlying areas, including the Virgin Islands, is not specified by WIA, but is at the Secretary's discretion. The methodology used is the same as used for PY 2000, i.e., distributed among the areas by formula based on relative share of number of unemployed, a 90 percent hold-harmless of the prior year share, a $75,000 minimum, and a 130 percent stop gain of the prior year share. Data used for the relative share calculation in the formula were the same as used for PY 2000 for all outlying areas. These data were obtained from the Bureau of the Census for American Samoa, Commonwealth of the Northern Mariana Islands, Federated States of Micronesia, Republic of Palau, and the U.S. Virgin Islands, based on mid-decade surveys for those areas conducted with the assistance of the Bureau. For Guam, data from a similar survey were not available from the Bureau, so data from the Guam June 1995 labor force survey were used. For the Republic of the Marshall Islands, where 1995 unemployment data were not available, 1988 survey data in combination with 1995 population estimates were used as the basis of the formula. Updated 2000 special Census data are expected to be available for next year's allotment calculations.

The total amount available for Native Americans is 1.5 percent of the total amount for Youth Activities excluding Youth Opportunity Grants, in accordance with WIA section 127. This total is $16,544,475, up $1,530,000, or 10.19 percent, from the PY 2000 Youth Activities level for Native Americans.

After determining the amount for the outlying areas and Native Americans, the amount available for allotment to the States for PY 2001 is $1,082,975,612, more than PY 2000 by $100,152,500, or an increase of 10.19 percent. This total amount was above the required $1 billion threshold specified in Section 127(b)(1)(C)(iv)(IV); therefore, for the first time, the WIA additional minimum provisions were triggered: (1) Minimum 1998 dollar (not percentage) (JTPA II-B and II-C combined) allotment, and (2) 2-tier small State minimum allotment (.3 percent of first $1 billion and .4 percent of amount over $1 billion), rather than .25 percent. These provisions were in addition to the traditional provision of a 90 percent hold-harmless from the prior year allotment percentage. Also, as required by WIA, the provision applying a 130 percent stop-gain of the prior year allotment percentage was used. The three formula factors required in WIA use the following data for the PY 2001 allotments:

(1) The number of unemployed for areas of substantial unemployment (ASU's) are averages for the 12-month period, July 1999 through preliminary June 2000;

(2) The number of excess unemployed individuals or the ASU excess (depending on which is higher) are averages for the same 12-month period used for ASU unemployed data; and

(3) The number of economically disadvantaged youth (age 16 to 21, excluding college students and military) are from the 1990 Census. (2000 Census data are not expected to be available for use until PY 2003 allotment calculations.)

Adult Employment and Training Activities Allotments

The total Adult Employment and Training Activities appropriation is $950,000,000, the same level as PY 2000. Attachment II shows the PY 2001 Adult Employment and Training Activities allotments and comparison to PY 2000 allotments by State.

Similarly to the Youth Activities program, the total available for the outlying areas was reserved at 0.25 percent of the full amount appropriated for Adults, or $2,375,000, the same level as PY 2000. The Adult Activities program portion of the $1,000,000 total for competitive grants for all three programs (described above in Youth Activities) required for the outlying areas (Guam, American Samoa, the Commonwealth of the Northern Mariana Islands, and the Freely Associated States) was set at $290,780. This amount is less than the maximum allowed by WIA (PY 1997 Adult allotments for the Freely Associated States). The amount represents a 12.2 percent share of the total Adult Activities program funds for all outlying areas and is calculated to be the same share as for the Dislocated Worker Activities program, after subtracting the Youth Activities program portion from the $1,000,000 total described above. The remaining non-competitive WIA title I Adult Activities funds for grants to all outlying areas, including the Virgin Islands, for which the methodology is at the Secretary's discretion (described in the Youth Activities section), were distributed among the areas by the same principles, formula and data as used for outlying areas for Youth Activities.

After determining the amount for the outlying areas, the amount available for allotments to the States is $947,625,000, the same as PY 2000. Unlike the Youth Activities program, the WIA minimum provisions were not triggered for the PY 2001 allotments because the total amount available for the States was below the $960 million threshold required for Adults in section 132(b)(1)(B)(iv)(IV). Instead, as required by WIA, the minimum allotments were calculated using the JTPA section 202(a)(3) (as amended by section 701 of the Job Training Reform Amendments of 1992) minimums of 90 percent hold-harmless of the prior year allotment percentage and 0.25 percent State minimum floor. Also, like the Youth Activities program, a provision applying a 130 percent stop-gain of the prior year allotment percentage was used. The three formula factors use the same data as used for the Youth Activities formula, except that data for the number of economically disadvantaged adults (age 22 to 72, excluding college students and military) from the 1990 Census were used. (2000 Census data are not expected to be available for use until PY 2003 allotment calculations.)

Dislocated Worker Employment and Training Activities Allotments

The total Dislocated Worker appropriation is $1,590,040,000, an increase of $1,015,000, or .06 percent from the PY 2000 level. The total appropriation includes 80 percent allotted by formula to the States, while 20 percent is retained for National Emergency Grants, technical assistance and training, demonstration projects, and for the outlying areas Dislocated Worker allotments. Attachment III shows the PY 2001 Dislocated Worker Activities fund allotments by State.

Similarly to the Youth and Adults programs, the total available for the outlying areas was reserved at 0.25 percent of the full amount appropriated for Dislocated Workers Activities, resulting in $3,975,100, an increase of $2,537 from PY 2000. The Dislocated Worker Activities program portion of the $1,000,000 total for competitive grants for all three programs (described above in Youth Activities) required for the outlying areas (Guam, American Samoa, the Commonwealth of the Northern Mariana Islands, and the Freely Associated States) was set at $486,685. This amount is less than the maximum allowed by WIA (PY 1997 Dislocated Worker allotments for the Freely Associated States). The amount represents a 12.2 percent share of the total Dislocated Worker Activities program funds for all outlying areas and is calculated to be the same share as for the Adult Activities program, after subtracting the Youth Activities program portion from the $1,000,000 total described above. The remaining non-competitive WIA Title I Dislocated Worker Activities funds for grants to all outlying areas, including the Virgin Islands, for which the methodology is at the Secretary's discretion, were distributed among the areas by the same pro rata share as the areas received for the PY 2001 WIA Adult Activities program, the same methodology used in PY 2000.

The amount available for allotments to the States is eighty percent of the Dislocated Workers appropriation, or $1,272,032,000, a gain of .06 percent over PY 2000. Since the Dislocated Worker Activities formula has no floor amount or hold-harmless provisions, funding changes for States directly reflect the impact of changes in number of unemployed. The three formula factors required in WIA use the following data for the PY 2001 allotments:

(1) The number of unemployed are averages for the 12-month period, October 1999 through September 2000;

(2) The number of excess unemployed are averages for the 12-month period, October 1999 through September 2000; and

(3) The number of long-term unemployed are averages for calendar year 1999.

Wagner-Peyser Act Preliminary Planning Estimates

The public employment service program involves a Federal-State partnership between the U.S. Department of Labor and the State Employment Security Agencies. Under the Wagner-Peyser Act, funds are allotted to each State to administer a labor exchange program responding to the needs of the State's employers and workers through a system of local employment services offices that are part of the One-Stop service delivery system established by the State. Total funding for Wagner-Peyser remained the same as PY 2000, but due to reduced reserves for postage, available funds for the States and outlying areas increased by $2 million. Attachment IV shows the Wagner-Peyser Act preliminary planning estimates for PY 2001. These preliminary planning estimates have been produced using the formula set forth at Section 6 of the Wagner-Peyser Act, 29 U.S.C. 49e. They are based on monthly averages for each State's share of the civilian labor force (CLF) and unemployment for the 12 months ending September 2000. Final planning estimates will be published in the Federal Register, based on calendar year 2000 data, as required by the Wagner-Peyser Act.

State planning estimates reflect $16,000,000, or 2.1 percent of the total amount appropriated, which is being withheld from distribution to States to finance postage costs associated with the conduct of Wagner-Peyser Act labor exchange services for PY 2001.

The Secretary of Labor is required to set aside up to three percent of the total available funds to assure that each State will have sufficient resources to maintain statewide employment service (ES) activities, as required under section 6(b)(4) of the Wagner-Peyser Act. In accordance with this provision, the three percent set-aside funds, or $22,372,050, are included in the total planning estimate. The set-aside funds are distributed in two steps to States which have lost in relative share of resources from the previous year. In Step 1, States which have a Civilian Labor Force (CLF) below one million and are also below the median CLF density are maintained at 100 percent of their relative share of prior year resources. All remaining set-aside funds are distributed on a pro-rata basis in Step 2 to all other States losing in relative share from the prior year but not meeting the size and density criteria for Step 1.

Under Wagner-Peyser Act section 7, ten percent of the total sums allotted to each State shall be reserved for use by the Governor to provide performance incentives for public ES offices; services for groups with special needs; and for the extra costs of exemplary models for delivering job services.

Signed at Washington, DC, this 2nd day of March, 2001.
Raymond J. Uhalde,
Deputy Assistant Secretary for Employment and Training.

BILLING CODE 4510-30-P

[FR Doc. 01-5537 Filed 3-6-01; 8:45 am]

BILLING CODE 4510-30-C